SMALL BUSINESS ADMINISTRATION

[Declaration of Disaster #3348]

State of Louisiana; Amendment #5

In accordance with a notice received from the Federal Emergency Management Agency, dated August 24, 2001, the above-numbered Declaration is hereby amended to extend the deadline for filing applications for physical damages as a result of this disaster to September 21, 2001.

All other information remains the same, i.e., the deadline for filing applications for loans for economic injury is March 11, 2002.

(Catalog of Federal Domestic Assistance Program Nos. 59002 and 59008)
Dated: August 27, 2001.
Herbert L. Mitchell,
Associate Administrator For Disaster Assistance.

[FR Doc. 01-21990 Filed 8-30-01; 8:45 am]

BILLING CODE 8025-01-P